DEPARTMENT OF HEALTH AND HUMAN SERVICES

Administration on Aging

Delegation of Authority

Notice is hereby given that I have delegated to the Assistant Secretary for Aging the authority vested in the Secretary of Health and Human Services under section 119(c) of the Medicare Improvements for Patients and Providers Act of 2008, Public Law 110-275 pertaining to making grants to Aging and Disability Resource Centers under the Aging and Disability Resource Center grant program.

These delegations shall be exercised under the Department's policy on regulations and the existing delegation of authority to approve and issue regulations. This delegation excludes the authority to issue reports to Congress.

I hereby affirmed and ratified any actions taken by the Assistant Secretary for Aging or other Administration on Aging officials, which involved the exercise of these authorities prior to the effective date of this delegation.

This delegation was effective upon date of signature.

Dated: February 9, 2009.
Charles E. Johnson,
Acting Secretary.

[FR Doc. E9-3839 Filed 2-23-09; 8:45 am]

BILLING CODE 4154-01-M